DEPARTMENT OF TRANSPORTATION

Pipeline and Hazardous Materials Safety Administration

Office of Hazardous Materials Safety; Notice of Applications for Modification of Special Permit.

AGENCY: Pipeline and Hazardous Materials Safety Administration (PHMSA), DOT.

ACTION: List of Applications for Modification of Special Permit.

SUMMARY: In accordance with the procedures governing the application for, and the processing of, special permits from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of special permits (e.g., to provide for additional hazardous materials, packaging design changes, additional mode of transportation, etc.) are described in footnotes to the application number. Application numbers with the suffix “M” denote a modification request.

Their applications have been separated from the new application for special permits to facilitate processing.

DATES: Comments must be received on or before April 3, 2008.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC or at http://dms.dot.gov.

This notice of receipt of applications for modification of special permit is published in accordance with Part 107 of the Federal hazardous materials transportation law (49 U.S.C. 51I7(b); 49 CFR 1.53(b)).

Issued in Washington, DC, on March 11, 2008.
Delmer F. Billings,
Director, Office of Hazardous Materials, Special Permits and Approvals.

Application No. | Docket No. | Applicant | Regulation(s) affected | Nature of special permit thereof
MODIFICATION SPECIAL PERMITS
5493-M |  | Marsulex, Inc. North York, ON | 49 CFR 173.314(c) | To modify the special permit to authorize a lower minimum loading temperature.
11602-M |  | East Tennessee Iron & Metal, Inc. Rogersville, TN | 49 CFR 172.101; 172.301(c); 173.22a; 173.241; 173.242; Part 107, Subpart B, Appendix B | To modify the special permit to authorize the addition of class 9 hazardous material.
13325-M | RSPA-16599 | Air Products & Chemicals, Inc. Allentown, PA | 49 CFR 173.301(f)(3); 180.205(c)(4) | To modify the special permit to authorize an increase in service life of certain DOT specification cylinders.
14318-M |  | Lockheed Martin Corporation (Former Grantee: Lockheed-Martin Technical Operations) Vandenberg AFB, CA | 49 CFR 173.315 | To modify the special permit to authorize multiple tanks of the same commodity to be transported in dedicated enclosed metal sided box vans or trucks.
14418-M |  | Department of Defense Ft. Eustis, VA | 49 CFR 172.301; 172.400; 172.504(a) | To modify the special permit to authorize the transportation in commerce of an additional Division 4.3 hazardous material.
14638-M |  | Teledyne Energy Systems, Inc. Hunt Valley, MD | 49 CFR 173.213 | To reissue the special permit originally issued on an emergency basis for the transportation in commerce of up to two pressure vessels containing Magnesium or Magnesium alloys under an Argon blanket further packaged in a non-DOT specification wooden box capable of meeting the performance requirements for PG II and to remove the one time restriction.

[FR Doc. E8-5472 Filed 3-18-08; 8:45 am]

BILLING CODE 4909-60-M